DEPARTMENT OF HOMELAND SECURITY

Federal Emergency Management Agency

Agency Information Collection Activities: Submission for OMB Review; Comment Request

AGENCY: Federal Emergency Management Agency, Emergency Preparedness and Response Directorate, Department of Homeland Security.

ACTION: Notice and request for comments.

SUMMARY: The Federal Emergency Management Agency has submitted the following proposed information collection to the Office of Management and Budget for review and clearance in accordance with the requirements of the Paperwork Reduction Act of 1995 (44 U.S.C. 3507).

Title: The Declaration Process: Request for Damage Assessment, Federal Disaster Assistance, Cost Share Adjustment.

Type of Information Collection: Extension of a currently approved collection.

OMB Number: 1660-0009.

Abstract: When a disaster occurs in a State, the Governor of the State or the Acting Governor in his/her absence, may request a major disaster or emergency declaration. The Governor should submit the request to the President through the appropriate Regional Director to ensure prompt acknowledgement and processing. Regional senior level staff will analyze the information obtained by State damage assessments. The Regional analysis shall include a discussion of State and local resources and capabilities, and other assistance available to meet the disaster related needs. The Under Secretary, Emergency Preparedness and Response, forwards the Governor's request to the President, with a FEMA report and recommendations. In the event the information required by law is not contained in the request, the Governor's request cannot be processed and forwarded to the White House. The Governor may appeal the decision.

Affected Public: Individuals or Households, Not-For-Profit Institutions, State, Local or Tribal Government, Business or Other For-Profit, Farms, and Federal Government.

Number of Respondents: 58.

Estimated Time per Respondent: 76 hours.

Estimated Total Annual Burden Hours: 13,224.

Frequency of Response: Per disaster.

Comments: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Branch, 500 C Street, SW., Room 316, Washington, DC 20472, facsimile number (202) 646-3347, or email address InformationCollections@fema.gov.

Dated: June 11, 2003.
Edward W. Kernan,
Division Director, Information Resources Management Division, Information Technology Services Directorate.

[FR Doc. 03-15615 Filed 6-19-03; 8:45 am]

BILLING CODE 6718-01-P